DEPARTMENT OF THE INTERIOR

Bureau of Land Management

[LLHQ260000 L10600000.PC0000; OMB Control Number 1004-0042]

Agency Information Collection Activities; Submission to the Office of Management and Budget for Review and Approval; Protection, Management, and Control of Wild Horses and Burros

AGENCY: Bureau of Land Management, Interior.

ACTION: Notice of information collection; request for comment.

SUMMARY: In accordance with the Paperwork Reduction Act of 1995, the Bureau of Land Management (BLM) is proposing to renew an information collection.

DATES: Interested persons are invited to submit comments on or before March 29, 2021.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request additional information about this ICR, contact Holle' Waddell by email at hwaddell@blm.gov, or by telephone at 405-579-1860. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 30, 2020 (85 FR 68914). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: In accordance with the Wild Free-Roaming Horses and Burros Act (16 U.S.C. 1331-1340) and the regulations at 43 CFR part 4700, the BLM collects specific information from individuals in order to determine (1) if applicants are qualified to adopt or purchase wild horses and burros, (2) whether or not to authorize an adopter or purchaser to maintain more than four wild horses and burros, (3) whether or not to grant requests for replacement animals or refunds, and (4) whether or not to terminate a private maintenance and care agreement. This request is for OMB to renewal OMB control number 1004-0042 for an additional three (3) years.

Title of Collection: Protection, Management, and Control of Wild Horses and Burros (43 CFR part 4700).

OMB Control Number: 1004-0042.

Form Numbers: 4710-10 and 4710-24.

Type of Review: Renewal and revision of a currently approved collection.

Respondents/Affected Public: Those who wish to adopt, purchase, foster, or train a wild horse or burro.

Total Estimated Number of Annual Respondents: 7,943.

Total Estimated Number of Annual Responses: 7,943.

Estimated Completion Time per Response: Between 10 minutes to 30 minutes.

Total Estimated Number of Annual Burden Hours: 3,970.

Respondent's Obligation: Required to obtain or retain a benefit.

Frequency of Collection: On occasion.

Total Estimated Annual Nonhour Burden Cost: $2,400.

An agency may not conduct or sponsor and a person is not required to respond to a collection of information unless it displays a currently valid OMB control number.

The authority for this action is the Paperwork Reduction Act of 1995 (44 U.S.C. 3501 et seq.).

Chandra Little,
Regulatory Analyst, Bureau of Land Management.

[FR Doc. 2021-04001 Filed 2-25-21; 8:45 am]

BILLING CODE 4310-84-P